FEDERAL COMMUNICATIONS COMMISSION

Notice of Public Information Collection(s) Being Reviewed by the Federal Communications Commission for Extension Under Delegated Authority

October 17, 2005.

SUMMARY: The Federal Communications Commission, as part of its continuing effort to reduce paperwork burden invites the general public and other Federal agencies to take this opportunity to comment on the following information collection(s), as required by the Paperwork Reduction Act (PRA) of 1995, Public Law 104-13. An agency may not conduct or sponsor a collection of information unless it displays a currently valid control number. No person shall be subject to any penalty for failing to comply with a collection of information subject to the Paperwork Reduction Act that does not display a valid control number. Comments are requested concerning (a) whether the proposed collection of information is necessary for the proper performance of the functions of the Commission, including whether the information shall have practical utility; (b) the accuracy of the Commission's burden estimate; (c) ways to enhance the quality, utility, and clarity of the information collected; and (d) ways to minimize the burden of the collection of information on the respondents, including the use of automated collection techniques or other forms of information technology.

DATES: Written Paperwork Reduction Act (PRA) comments should be submitted on or before December 27, 2005. If you anticipate that you will be submitting comments, but find it difficult to do so within the period of time allowed by this notice, you should advise the contact listed below as soon as possible.

ADDRESSES: You may submit your all Paperwork Reduction Act (PRA) comments by email or U.S. postal mail. To submit your comments by email send them to PRA@fcc.gov. To submit your comments by U.S. mail, mark them to the attention of Cathy Williams, Federal Communications Commission, Room 1-C823, 445 12th Street, SW., Washington, DC 20554.

FOR FURTHER INFORMATION CONTACT: For additional information about the information collection(s) send an email to PRA@fcc.gov or contact Cathy Williams at (202) 418-2918.

SUPPLEMENTARY INFORMATION: OMB Control Number: 3060-0010.

Title: Ownership Report for Commercial Broadcast Station.

Form Number: FCC Form 323.

Type of Review: Extension of a currently approved collection.

Respondents: Business or other for-profit entities.

Number of Respondents: 2,000.

Estimated Time per Response: 0.5 to 1.5 hours.

Frequency of Response: On occasion reporting requirement; Biennial reporting requirement; Upon renewal reporting requirement; Third party disclosure requirement.

Total Annual Burden: 2,750 hours.

Total Annual Cost: $2,166,800.

Privacy Impact Assessment: No impact(s).

Needs and Uses: Each permittee of a commercial AM, FM, TV, and international broadcast station must file FCC Form 323, Ownership Report, within 30 days of the FCC granting their application for an original construction permit, the consummation, pursuant to FCC consent, of a transfer of control or an assignment of a construction permit, and when it files its license for the new station. Each license of a commercial AM, FM, TV, and international broadcast station must file FCC Form 323 with 30 days of the consummation, pursuant to FCC consent, of a transfer of control or an assignment of license, when it files its station's renewal application, and every two years thereafter. Data on the FCC Form 323 helps to determine whether the licensee/permittee meets the FCC's multiple ownership requirements and complies with the Communications Act. The race/ethnicity/gender question on the form indicates current minority and female ownership of broadcast facilities and the efficacy of FCC Rules to promote opportunities for small businesses and minority and female-owned businesses in the broadcasting industry.

Federal Communications Commission.
Marlene H. Dortch,
Secretary.

[FR Doc. 05-21206 Filed 10-25-05; 8:45 am]

BILLING CODE 6712-01-P